DEPARTMENT OF COMMERCE

National Institute of Standards and Technology

National Artificial Intelligence Advisory Committee; Law Enforcement Subcommittee

AGENCY: National Institute of Standards and Technology, Department of Commerce.

ACTION: Notice of open meeting.

SUMMARY: The National Institute of Standards and Technology (NIST) announces that the National Artificial Intelligence Advisory Committee Law Enforcement Subcommittee (NAIAC-LE or Subcommittee) will hold an open meeting in-person and via web conference on January 19, 2024, from 1 p.m. to 2:30 p.m. eastern time. The primary purpose of this meeting is for the Subcommittee Members to report the working group's findings, identify actionable recommendations and discuss updates on goals and deliverables. The final agenda will be posted to the NAIAC website: ai.gov/naiac/.

DATES: The meeting will be held on Friday, January 19, 2024, from 1 p.m.-2:30 p.m. eastern time.

ADDRESSES: The meeting will be held in-person and via web conference from the Miami Police Department, 400 NW 2nd Avenue, Miami, Florida 33128. For instructions on how to attend and/or participate in the meeting, please see the SUPPLEMENTARY INFORMATION section of this notice.

FOR FURTHER INFORMATION CONTACT: Alicia Chambers, Committee Liaison Officer and Designated Federal Officer, National Institute of Standards and Technology, 100 Bureau Drive, MS 8900, Gaithersburg, MD 20899, alicia.chambers@nist.gov or 301-975-5333. Please direct any inquiries to naiac@nist.gov.

SUPPLEMENTARY INFORMATION: Pursuant to the Federal Advisory Committee Act, as amended, 5 U.S.C. 1001 et seq., notice is hereby given that the NAIAC-LE will meet on Friday, January 19, 2024, from 1 p.m.-2:30 p.m. eastern time. The meeting will be open to the public and will be held in-person and via web conference. The primary purpose of this meeting is for the Subcommittee Members to report the working group's findings, identify actionable recommendations and discuss updates on goals and deliverables. The final agenda and meeting time will be posted to the NAIAC website: ai.gov/naiac/.

The NAIAC-LE is authorized by section 5104 of the National Artificial Intelligence Initiative Act of 2020 (Pub. L. 116-283), in accordance with the provisions of the Federal Advisory Committee Act, as amended (FACA), 5 U.S.C. 1001 et seq. The Subcommittee advises the President through NAIAC on matters related to the development of artificial intelligence relating to law enforcement. Additional information on the NAIAC-LE is available at ai.gov/naiac/.

Comments: Individuals and representatives of organizations who would like to offer comments and suggestions related to items on the Subcommittee's agenda for this meeting are invited to submit comments in advance of the meeting. Approximately ten minutes will be reserved for public comments, which will be read on a first-come, first-served basis. Please note that all comments submitted via email will be treated as public documents and will be made available for public inspection. All comments must be submitted via email with the subject line “January 19, 2024, NAIAC-LE Meeting Comments” to naiac@nist.gov by 5 p.m. eastern time, Thursday, January 18, 2024. NIST will not accept comments accompanied by a request that part or all of the comment be treated confidentially because of its business proprietary nature or for any other reason. Therefore, do not submit confidential business information or otherwise sensitive, protected, or personal information, such as account numbers, Social Security numbers, or names of other individuals.

Virtual Admittance Instructions: The meeting will be broadcast via web conference. Registration is required to view the web conference. Instructions to register will be made available on ai.gov/naiac/#MEETINGS. Registration will remain open until the conclusion of the meeting.

In-Person Admittance Instruction: Limited space is available on a first-come, first-served basis for anyone who wishes to attend in person. Registration is required for in-person attendance. Registration details will be posted at ai.gov/naiac/#MEETINGS. Registration for in-person attendance will close at 5 p.m. eastern time on Thursday, January 18, 2024.

Tamiko Ford,
NIST Executive Secretariat.

[FR Doc. 2024-00116 Filed 1-5-24; 8:45 am]

BILLING CODE 3510-13-P